NUCLEAR REGULATORY COMMISSION

Meeting of the Advisory Committee on Reactor Safeguards (ACRS) Subcommittee on NuScale

The ACRS Subcommittee on NuScale will hold a meeting on December 18, 2018, at U.S. Nuclear Regulatory Commission, Three White Flint North, 11601 Landsdown Street, Conference Rooms 1C3-1C5, North Bethesda, MD 20852.

The meeting will be open to public attendance with the exception of portions that may be closed to protect information that is proprietary pursuant to 5 U.S.C. 552b(c)(4). The agenda for the subject meeting shall be as follows:

Tuesday, December 18, 2018—1:00 p.m. Until 5:00 p.m.

The Subcommittee will review Chapters 2, “Site Characteristics and Site Parameters,” and Chapter 17, “Quality Assurance and Reliability Assurance,” of the safety evaluation report with open items associated with the NuScale design certification application. The Subcommittee will hear presentations by and hold discussions with the NRC staff, NuScale and other interested persons regarding this matter. The Subcommittee will gather information, analyze relevant issues and facts, and formulate proposed positions and actions, as appropriate, for deliberation by the Full Committee.

Members of the public desiring to provide oral statements and/or written comments should notify the Designated Federal Official (DFO), Michael Snodderly (Telephone 301-415- 2241 or Email: Michael.Snodderly@nrc.gov) five days prior to the meeting, if possible, so that appropriate arrangements can be made. Thirty-five hard copies of each presentation or handout should be provided to the DFO thirty minutes before the meeting. In addition, one electronic copy of each presentation should be emailed to the DFO one day before the meeting. If an electronic copy cannot be provided within this timeframe, presenters should provide the DFO with a CD containing each presentation at least thirty minutes before the meeting. Electronic recordings will be permitted only during those portions of the meeting that are open to the public. The public bridgeline number for the meeting is 866-822-3032, passcode 8272423. Detailed procedures for the conduct of and participation in ACRS meetings were published in the Federal Register on October 4, 2017 (82 FR 46312).

Detailed meeting agendas and meeting transcripts are available on the NRC website at http://www.nrc.gov/reading-rm/doc-collections/acrs. Information regarding topics to be discussed, changes to the agenda, whether the meeting has been canceled or rescheduled, and the time allotted to present oral statements can be obtained from the website cited above or by contacting the identified DFO. Moreover, in view of the possibility that the schedule for ACRS meetings may be adjusted by the Chairman as necessary to facilitate the conduct of the meeting, persons planning to attend should check with these references if such rescheduling would result in a major inconvenience.

If attending this meeting, please enter through the Three White Flint North building, 11601 Landsdown Street, North Bethesda, MD 20852. After registering with Security, please proceed to conference room 1C3-1C5, located directly behind the security desk on the first floor. You may contact Kendra Freeland (Telephone 301-415-6702 or 301-415-7998) for assistance or to be escorted to the meeting room.

Dated: December 13, 2018.
Alesha Bellinger,
Chief, Program Management, Policy Development & Analysis, Advisory Committee on Reactor Safeguards.

[FR Doc. 2018-27418 Filed 12-18-18; 8:45 am]

BILLING CODE 7590-01-P